DEPARTMENT OF THE INTERIOR

Bureau of Land Management

[LLNVW03500.L51050000.EA0000.LVRCF1705210.17XMO#4500108946]

Notice of Intent To Prepare an Environmental Impact Statement for the Proposed Burning Man Event 10-Year Special Recreation Permit, Pershing County, Nevada

AGENCY: Bureau of Land Management, Interior.

ACTION: Notice of Intent.

SUMMARY: In compliance with the National Environmental Policy Act of 1969, as amended (NEPA), and the Federal Land Policy and Management Act of 1976, as amended, the Bureau of Land Management (BLM) Black Rock Field Office, Winnemucca, Nevada intends to prepare an Environmental Impact Statement (EIS) to analyze the potential impacts of approving a 10-year Special Recreation Permit (SRP) for the Burning Man Event in Pershing County, Nevada. This Notice initiates public scoping period for the EIS. The public scoping process will assist the BLM with determining the issues to be addressed in the EIS, and serves to initiate public consultation, as required under the National Historic Preservation Act (NHPA).

DATES: Comments on issues may be submitted in writing until August 6, 2018. The date(s) and location(s) of any scoping meetings will be announced at least 15 days in advance through local media, newspapers and the BLM website at: https://go.usa.gov/xnBTu.

In order to ensure comments are considered in the development of the EIS, all comments must be received prior to the close of the 45-day scoping period or 15 days after the last public meeting, whichever is later. We will provide additional opportunities for public participation upon publication of the Draft EIS.

ADDRESSES: Comments related to the Burning Man SRP EIS should be submitted to following addresses:

• Email: BLM_NV_BurningManEIS@blm.gov. Include “Burning Man SRP EIS Comments” in the subject line.

• Mail: BLM—Winnemucca District Office—Black Rock Field Office, Attn: Mark E. Hall, Black Rock Field Manager, 5100 East Winnemucca Boulevard, Winnemucca, NV 89445.

FOR FURTHER INFORMATION CONTACT: Mark Hall at 775-623-1500 or mehall@blm.gov. Contact Mr. Hall to be added to our mailing list. Persons using a telecommunications device for the deaf (TDD) may call the Federal Relay Service (FRS) at 1-800-877-8339 to contact the above individual during normal business hours. The FRS is available 24 hours a day, 7 days a week to leave a message with the above individual. You will receive a reply during normal business hours.

SUPPLEMENTARY INFORMATION: The applicant, Black Rock City LLC (BRC), has applied for a 10-year SRP under 43 CFR 2930 and has submitted a proposal to conduct the Burning Man event on public lands administered by the BLM Black Rock Field Office. BRC's proposal includes the following:

• Population increase to permit up to 100,000 total persons at the event;

• Expansion of the BLM Closure Order boundary by 561 acres, to a total of 14,714 acres;

• Creation of an infrastructure staging area on or near the Playa (60 x 300 ft);

• Expansion of alternative transportation (Burner Express Bus/Burner Express Air);

• Expansion of the perimeter fence to 10.4 miles total length;

• Arrival of as many as 30,000 staff and builders one week prior to opening;

• Expansion of Black Rock City to 1,250 acres;

• Installation of additional interactive camps;

• Installation of additional large scale art pieces;

• BRC licensing of art cars and ADA compliant vehicles to drive on the playa during event week;

• Use of approximately 16.5 million gallons of water per year would be obtained from private groundwater wells, located at Fly Ranch owned by BRC, for dust abatement and in support of event activities; and

• BRC management of vendor and compliance monitoring.

A reasonable range of alternatives will be formulated. In addition to the proposed action, two alternatives have been identified for analysis. The No Action alternative will analyze continuation of the existing event with paid population of 70,000 and up to 10,000 volunteers and paid staff. The No Event alternative will analyze not having the event in the Black Rock-High Rock National Conservation Area. Additional alternatives may be determined. The EIS will assess the direct, indirect and cumulative effects of BRC's proposal as well as any recommended mitigation.

The purpose of the public scoping process is to determine relevant issues that will influence the scope of the environmental analysis, including alternatives and guide the process for developing the EIS. At present, the BLM has identified the following preliminary key issues:

• With the increase in participants, both the Pershing and Washoe County Sheriff offices may express concerns over public health and safety, and deputy staffing. Associated with this is the question of how the BLM will enforce applicable federal, state and local laws;

• With the increase in participants, increased amounts of airborne dust may be created, with associated air quality impacts;

• Surrounding communities and the Pyramid Lake Indian Reservation may express concerns on the amount of solid waste (trash and refuse) generated by participants and how it will be disposed as participants depart the event;

• A variety of groups may want to know how BLM will monitor the event to insure that there is no unnecessary or undue degradation of federal land, and that the BLM receives appropriate financial compensation and cost recovery under the law; and

• With the increase in participants, both the Nevada Department of Transportation and County of Washoe may raise concerns with traffic and load capacity issues on public roads that access the event.

The BLM will utilize and coordinate the NEPA scoping process to help fulfill the public involvement process under the NHPA as provided in 36 CFR 800.2(d)(3). The information about historic and cultural resources within the area potentially affected by the proposed action will assist the BLM in identifying and evaluating impacts to such resources in the context of both NEPA and the NHPA.

The BLM will consult with Native American tribes on a government-to-government basis in accordance with Executive Order 13175, Secretarial Order 3317 and other policies. Tribal concerns, including but not limited to impacts on Indian trust assets and potential impacts to cultural resources, will be given due consideration. Federal, State and local agencies and other stakeholders that may be interested in or affected by BRC's proposal are invited to participate in the scoping process and, if eligible, may request or be requested by the BLM to participate in the development of the environmental analysis as a cooperating agency.

Before including your address, phone number, email address or other personally identifiable information in your comment, you should be aware that your entire comment—including your personally identifiable information—may be made publicly available at any time. While you can ask the BLM in your comment to withhold your personally identifiable information from public review, we cannot guarantee that we will be able to do so.

Authority: 40 CFR 1501.7.

Mark E. Hall,
Field Manager, Black Rock Field Office.

[FR Doc. 2018-13244 Filed 6-19-18; 8:45 am]

BILLING CODE 4310-HC-P